DEPARTMENT OF HOMELAND SECURITY

Coast Guard

[USCG-2006-26255]

Use of Akers Breath Alcohol .02 Detection System Test Device for Serious Marine Incident Testing

AGENCY: Coast Guard, DHS.

ACTION: Notice.

SUMMARY: The Coast Guard announces that the use of a Breath Alcohol .02 Detection System manufactured by Akers Bioscience, Inc., may be used by the maritime industry to conduct alcohol tests in compliance with Coast Guard regulations.

DATES: This notice is effective November 16, 2006.

ADDRESSES: You may send questions regarding this notice to: Drug and Alcohol Program Manager, U.S. Coast Guard Headquarters, Room 2404 (G-PCA); 2100 Second St., SW., Washington, DC 20593-0001.

FOR FURTHER INFORMATION CONTACT: If you have questions on this notice, call Robert C. Schoening, Drug and Alcohol Program Manager, G-PCA, Coast Guard, telephone 202-372-1033. If you have questions on viewing or submitting material to the docket, call Renee V. Wright, Program Manager, Docket Operations, telephone 202-493-0402.

SUPPLEMENTARY INFORMATION: Privacy Act: Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://dms.dot.gov.

Background and Purpose: The Coast Guard is making this announcement to allow the use of the Akers Breath Alcohol .02 Detection System for use in the maritime industry. Akers Bioscience, Inc. has received a letter, dated October 6, 2006, from National Highway Traffic Safety Administration (NHTSA/DOT) that the Breath Alcohol .02 Detection System, has met the requirements of model specifications as required by NHTSA. In order to better serve the interests of the marine industry, Coast Guard is allowing the use of this device by marine employers until NHTSA publishes the next Conforming Products List for Alcohol Screen Devices (ASDs) in the Federal Register. This device will meet the requirements in 46 CFR Part 4. Further information on alcohol testing in the maritime industry following a serious marine incident, can be located in the Final rule published on December 22, 2005, in the Federal Register (70 FR 75954).

Dated: November 8, 2006.
B.M. Salerno,
Rear Admiral, U.S. Coast Guard, Acting Assistant Commandant for Prevention.

[FR Doc. E6-19317 Filed 11-15-06; 8:45 am]

BILLING CODE 4910-15-P